DEPARTMENT OF TRANSPORTATION

Federal Aviation Administration

Forty-First Meeting, RTCA Special Committee 186 Automatic Dependent Surveillance-Broadcast (ADS-B)

AGENCY: Federal Aviation Administration (FAA), DOT.

ACTION: Notice of RTCA Special Committee 186 Automatic Dependent Surveillance-Broadcast (ADS-B) meeting.

SUMMARY: The FAA is issuing this notice to advise the public of a meeting of RTCA Special Committee 186 Automatic Dependent Surveillance-Broadcast (ADS-B).

DATES: The meeting will be held July 31-August 3, 2007, at 9 a.m. (Unless Otherwise noted).

ADDRESSES: The meeting will be held at RTCA, Inc., 1828 L Street, NW., Suite 805, Washington, DC 20036.

FOR FURTHER INFORMATION CONTACT: (1) RTCA Secretariat (Hal Moses), 1828 L Street, NW., Suite 805, Washington, DC 20036, (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 186 meeting. The agenda will include:

• July 31:

• All Day, ASSAP Subgroup, MacIntosh-NBAA & Hilton-ATA Rooms

• All Day, CDTI Subgroup, Colson Board Room

• August 1:

• All Day-Working Group I—Operations and Implementation, Surface Alerting Activity, Colson Board Room

• All Day, ASSAP Subgroup, MacIntosh-NBAA Room

• All Day, CDTI Subgroup, Hilton-ATA Room

• August 2:

• All Day-Working Group I—Operations and Implementation, Surface Alerting Discussion, Colson Board Room

• All Day, ASSAP Subgroup, MacIntosh-NBAA Room

• All Day, CDTI Subgroup, Hilton-ATA Room

• August 3:

• Working Groups May Meet After the Plenary Adjourns

• Opening Plenary Session (Welcome and Introductory Remarks, review of meeting agenda)

• Review/Approval of the Fortieth Meeting Summary, RTCA Paper No. 159-07/SC186-250.

• Date, Place, and Time of Next Meeting.

• Review proposed TORs for SC186 and WGI

• Working Group Reports

• WG-1—Operations and Implementation

• WG-2—TIS-B MASPS

• WG-3—1090 MHz MOPS

• WG-4—Applications Technical Requirements

• WG-5—UAT MOPS

• Final Review/Approval—Proposed Final Draft—revised DO-286A—Minimum Aviation System Performance Standards (MASPS) for Traffic Information Service-Broadcast (TIS-B), RTCA Paper No. 158-07/SC-186-249

• Closing Plenary Session (New/Other Business, Review Actions Items/Work Program, Adjourn)

• Note:

• AD—Application Development

• ASAS—Aircraft Surveillance Applications System

• ASSAP—Airborne Surveillance & Separation Assurance Processing

• CDTI—Cockpit Display of Traffic Information

• MASPS—Minimum Aviation System Performance Standards

• MOPS—Minimum Operational Performance Standards

• NRA—Non-Radar Airspace

• RFG—Requirements Focus Group

• STP—Surveillance Transmit Processing

Attendance is open to the interested public but limited to space availability. With the approval of the Chairmen, members of the public may present oral statements at the meeting. Persons wishing to present statements or obtain information should contact the person listed in the “FOR FURTHER INFORMATION CONTACT” section. Members of the public may present a written statement to the committee at any time.

Issued in Washington, DC, on June 28, 2007.
Francisco Estrada C.,
RTCA Advisory Committee.

[FR Doc. 07-3257 Filed 7-3-07; 8:45 am]

BILLING CODE 4910-13-M